FEDERAL RETIREMENT THRIFT INVESTMENT BOARD

Sunshine Act Notice

Time and Date: 9 a.m. (e.s.t.), March 15, 2004.

Place: 4th Floor, Conference Room, 1250 H Street, NW., Washington, DC.

Status: Parts will be open to the public and parts closed to the public.

Matters to be Considered:

Parts Open to the Public

1. Approval of the minutes of the February 17, 2004, Board member meeting.

2. Thrift Savings Plan activity report by the Executive Director.

Parts Closed to the Public

3. Personnel matters.

4. Procurement issues.

Contact Person for More Information: Thomas J. Trabucco, Director, Office of External Affairs, (202) 942-1640.

Dated: March 3, 2004.
Elizabeth S. Woodruff,
Secretary to the Board, Federal Retirement Thrift Investment Board.

[FR Doc. 04-5212 Filed 3-5-04; 4:16 pm]

BILLING CODE 6760-01-P